DEPARTMENT OF HOMELAND SECURITY

Transportation Security Administration

Extension of Agency Information Collection Activity Under OMB Review: Flight Crew Self-Defense Training—Registration and Evaluation

AGENCY: Transportation Security Administration, DHS.

ACTION: 30 day notice.

SUMMARY: This notice announces that the Transportation Security Administration (TSA) has forwarded the Information Collection Request (ICR), Office of Management and Budget (OMB) control number 1652-0028, abstracted below to OMB for review and approval of an extension of the currently approved collection under the Paperwork Reduction Act (PRA). The ICR describes the nature of the information collection and its expected burden. TSA published a Federal Register notice, with a 60-day period soliciting comments, of the following collection of information on May 12, 2011 (76 FR 27656).

Upon registering for a voluntary advanced self-defense training class provided by TSA, the collection process involves requesting, the name, contact information, airline employee number, and Social Security number (last four digits) from flight and cabin crew members of air carriers to verify employment status and to confirm eligibility to participate. Eligible training participants are flight and cabin crew members of a U.S. airline conducting scheduled passenger operations. As such, on attending class, in person, crew members are asked to show a second form of identification to confirm registration information. See 49 U.S.C. 44918. Additionally, each participant is asked to complete a voluntary course evaluation form after the training concludes. The registration process was not mentioned in the 60-day notice, but is part of the process. Registration adds approximately five minutes per person to the burden of this collection.

DATES: Send your comments by November 18, 2011. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Flight Crew Self-Defense Training—Registration and Evaluation.

Type of Request: Extension of a currently approved collection.

OMB Control Number: 1652-0028.

Forms(s): “Level 1 End-of-Course Evaluation”; “Community College Sign-In Sheet”

Affected Public: Flight and cabin crewmembers on passenger and cargo flights.

Abstract: TSA is seeking to renew the ICR, currently approved under OMB number 1652-0028, to continue compliance with a statutory mandate. Specifically, under Section 603 of Vision 100—Century of Aviation Reauthorization Act (Pub. L. 108-176, 117 Stat. 2490, 2563, Dec. 12, 2003), TSA must develop and provide a voluntary advanced self-defense training program for flight and cabin crew members of air carriers providing scheduled passenger air transportation. See 49 U.S.C. 44918(b).

TSA requests this renewal so that TSA may collect limited biographical information from flight and cabin crew members to continue to confirm their eligibility to participate in this training program and to confirm their attendance. TSA confirms the eligibility of the participant by contacting the participant's employer, and confirms attendance by comparing the registration information against a sign-in sheet provided in the classroom. TSA also asks participants to complete an anonymous and voluntary evaluation form after participation in the training to assess the quality of the training.

Number of Respondents: 2,000.

Estimated Annual Burden Hours: An estimated 500 hours annually.

Issued in Arlington, Virginia, on October 13, 2011.
Joanna Johnson,
TSA Paperwork Reduction Act Officer, Office of Information Technology.

[FR Doc. 2011-26971 Filed 10-18-11; 8:45 am]

BILLING CODE 9110-05-P